CONSUMER PRODUCT SAFETY COMMISSION

Sunshine Act Meetings

Time and Date: Wednesday, October 7, 2009, 2 p.m.

Place: Hearing Room 420, Bethesda Towers, 4330 East West Highway, Bethesda, Maryland.

Status: Closed to the Public.

Matter To Be Considered:

Compliance Weekly Report—Commission Briefing

The staff will brief the Commission on various compliance matters.

For a recorded message containing the latest agenda information, call (301) 504-7948.

Contact Person For More Information: Todd A. Stevenson, Office of the Secretary, U.S. Consumer Product Safety Commission, 4330 East West Highway, Bethesda, MD 20814 (301) 504-7923.

Todd A. Stevenson,
Secretary.

[FR Doc. E9-23465 Filed 9-29-09; 8:45 am]

BILLING CODE 6355-01-M